DEPARTMENT OF THE INTERIOR

Canyons of the Ancients National Monument Advisory Committee; Notice of Renewal

AGENCY: Bureau of Land Management (BLM), Colorado State Office, Interior.

ACTION: Notice of renewal for the Canyons of the Ancients National Monument Advisory Committee.

SUMMARY: This notice is published in accordance with Section 9(a)(2) of the Federal Advisory Committee Act of 1972, Public Law 92-463. Notice is hereby given that the Secretary of the Interior has renewed the Bureau of Land Management's Canyons of the Ancients National Monument Advisory Committee.

The purpose of the Committee is to provide advice and counsel to the Bureau of Land Management, through the Canyons of the Ancients National Monument Manager, regarding the development and implementation of a management plan for public lands within the Monument area.

FOR FURTHER INFORMATION CONTACT: Melanie Wilson Gore, Intergovernmental Affairs (640), Bureau of Land Management, 1620 L Street, NW., Room 406 LS, Washington, DC 20036, telephone (202) 452-0377.

Certification Statement

I hereby certify that the renewal of the Canyons of the Ancients National Monument Advisory Committee is necessary and in the public interest in connection with the Secretary of the Interior's responsibilities to manage the lands, resources, and facilities administered by the Bureau of Land Management.

Dated: November 18, 2004.
Gale A. Norton,
Secretary of the Interior.

[FR Doc. 04-26869 Filed 12-7-04; 8:45 am]

BILLING CODE 4310-10-M